ENVIRONMENTAL PROTECTION AGENCY

[EPA-R09-OAR-2008-0819; FRL-8744-6]

Adequacy Status of Motor Vehicle Emissions Budgets in Submitted Eight-Hour Ozone Early Progress Plan for Eastern Kern County for Transportation Conformity Purposes; California

AGENCY: Environmental Protection Agency (EPA).

ACTION: Notice of Adequacy.

SUMMARY: In this notice, EPA is notifying the public that the Agency has found that the motor vehicle emissions budgets for 8-hour ozone in the Eastern Kern County 8-hour Ozone Early Progress Plan are adequate for transportation conformity purposes. On March 24, 2008, the California Air Resources Board submitted a revision to the California State Implementation Plan (SIP) containing Early Progress Plans for the 8-hour ozone standard for five California areas, including the Eastern Kern County nonattainment area. As a result of our adequacy finding, the Kern Council of Governments and the U.S. Department of Transportation must use these budgets in future conformity analyses once the finding becomes effective.

DATES: This finding is effective December 10, 2008.

FOR FURTHER INFORMATION CONTACT: Karina O'Connor, U.S. EPA, Region IX, Air Division (AIR-2), 75 Hawthorne Street, San Francisco, CA 94105-3901; (775) 833-1276 or oconnor.karina@epa.gov.

SUPPLEMENTARY INFORMATION: Throughout this document, whenever “we,” “us,” or “our” is used, we mean EPA.

Today's notice is simply an announcement of a finding that we have already made. EPA Region IX sent a letter to the California Air Resources Board on November 10, 2008 stating that the motor vehicle emissions budgets for year 2008 in the submitted SIP containing an early progress plan for the Eastern Kern 8-hour ozone nonattainment area are adequate. The finding is available at EPA's conformity website: http://www.epa.gov/otaq/stateresources/transconf/adequacy.htm. The adequate motor vehicle emissions budgets are provided in the following table:

Motor Vehicle Emissions Budgets, Summer Planning Inventory
Budget year | Volatile organic compounds¹ (tons per day) | Nitrogen oxides (tons per day)
2008 | 5 | 18
¹ The plan uses a comparable State term, reactive organic gases (ROG).

Transportation conformity is required by Clean Air Act section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004 preamble starting at 69 FR 40038 and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: November 14, 2008.
Keith Takata,
Acting Regional Administrator, Region IX.

[FR Doc. E8-27968 Filed 11-24-08; 8:45 am]

BILLING CODE 6560-50-P